DEPARTMENT OF COMMERCE

International Trade Administration

A-533-809

Notice of Extension of Time Limit for the Preliminary Results of Antidumping Duty New Shipper Review: Stainless Steel Flanges from India

AGENCY: Import Administration, International Trade Administration, Department of Commerce.

EFFECTIVE DATE: October 3, 2006.

FOR FURTHER INFORMATION CONTACT: Fred Baker or Robert James, AD/CVD Operations, Office 7, Import Administration, International Trade Administration, U.S. Department of Commerce, 14th Street and Constitution Avenue, NW, Washington, DC 20230; telephone: (202) 482-2924 or (202) 482-0649, respectively.

SUPPLEMENTARY INFORMATION:

Background

On February 9, 1994, the Department published the antidumping duty order on stainless steel flanges from India. See Amended Final Determination and Antidumping Duty Order; Certain Forged Stainless Steel Flanges from India, 59 FR 5994 (February 9, 1994). On February 28, 2006, we received requests for new shipper reviews for the period February 1, 2005, through January 31, 2006, from Kunj Forgings Pvt. Ltd. (Kunj), Micro Forge (India) Ltd. (Micro), Pradeep Metals Ltd. (Pradeep), and Rollwell Forge, Ltd. (Rollwell). On April 6, 2006, the Department published a notice initiating the requested reviews. See Stainless Steel Flanges from India: Notice of Initiation of Antidumping Duty New Shipper Reviews, 71 FR 17439, (April 6, 2006). The preliminary results of the new shipper review with respect to Kunj are currently due no later than September 27, 2006.

Extension of Time Limit for Preliminary Results

Pursuant to section 751(a)(2)(B) of the Tariff Act of 1930 as amended (the Act), the Department shall issue preliminary results in a new shipper review of an antidumping duty order within 180 days after the date on which the new shipper review was initiated. The Act further provides, however, that the Department may extend the deadline for completion of the preliminary results of a new shipper review from 180 days to 300 days if it determines that the case is extraordinarily complicated. See section 751(a)(2)(B)(iv) of the Act. We determine that this new shipper review is extraordinarily complicated because Kunj produces several model types of flanges the Department has not analyzed in previous segments of this administrative proceeding.

Section 751(a)(2)(B) of the Act and section 351.214(i)(2) of the Department's regulations allow the Department to extend the deadline for the preliminary results to a maximum of 300 days from the date on which the new shipper review was initiated. For the reasons noted above, we are extending the time for the completion of the preliminary results until no later than January 25, 2007, which is 300 days from the date on which the new shipper review was initiated. The deadline for the final results of this new shipper review continues to be 90 days after the publication of the preliminary results, unless extended.

This notice is issued and published in accordance with section 751(a)(2)(B) and 777(i)(1) of the Act.

Dated: September 27, 2006.
Stephen J. Claeys,
Deputy Assistant Secretary for Import Administration

[FR Doc. E6-16302 Filed 10-2-06; 8:45 am]

BILLING CODE 3510-DS-S